DEPARTMENT OF LABOR

Secretary's Order 03-2020—Establishment of the Management Review Board

1. Purpose. This Order establishes the Management Review Board (MRB), which shall serve as a forum for systematically furthering the Secretary's management objectives for the Department of Labor (DOL).

2. Authority and Directives Affected. This order supersedes and cancels Secretary's Order 05-2001.

3. Background. The MRB will serve as the principal forum for coordination, executive oversight, and integration of agency management processes, offering an essential Departmental perspective in assessing a variety of Agency administrative areas.

4. Composition.

A. Chairperson. The MRB shall be co-chaired by the Assistant Secretary for Administration and Management and the Chief Financial Officer (the Co-Chairs).

B. Membership. The membership of the MRB will consist of DOL Agency Heads or their designees. Designees will be at the Deputy Assistant Secretary level or the Agency's Administrative Officer.

C. Non-Member Subject Matter Experts. The following career executives will provide information and guidance to the MRB.

1. The Chief Information Officer

2. The Chief Human Capital Officer

3. The Senior Procurement Executive

4. The Chief Data Officer

5. The Chief Evaluation Officer

6. The Director of the Departmental Budget Center

7. The Director of the Performance Management Center

D. Logistics.

1. The MRB will meet monthly.

2. All meetings will be convened by the Co-Chairs with sufficient advanced notice as to promote member participation.

3. The Office of the Assistant Secretary for Administration and Management's Performance Management Center will provide logistical support including meeting materials and space.

4. The Executive Secretary is delegated authority and assigned responsibility for recording official decisions and assignments made at MRB proceedings and will participate in follow-up activities, as required.

5. Delegation of Authority and Assignment of Responsibility.

A. The Management Review Board is delegated authority and assigned responsibility for defining and addressing DOL management initiatives and major cross-cutting management issues; for providing a forum for eliciting the views and perspectives of affected DOL agencies and offices; and for ascertaining a coordinated Departmental perspective and recommended course(s) of action, as appropriate, in the following areas:

1. Evidence-building, including evaluation, performance management, and using data as a strategic asset;

2. information technology;

3. financial management, including enterprise risk management;

4. human resources;

5. acquisition management; and

6. security and safety.

B. The Solicitor of Labor is delegated authority and assigned responsibility for providing legal advice and counsel to the Secretary and Deputy Secretary, the MRB, and other DOL agencies on all matters arising in the administration of this Order.

C. Agency Heads are responsible for:

1. Providing to the MRB the perspective of their respective agencies on matters before the MRB; and

2. consulting with the MRB on policies and activities which relate to the purposes or responsibilities of the MRB.

6. Independent Contributing Committees. The following committees are independent of the MRB, but may be called on to regularly provide updates:

A. Enterprise Shared Services Governance Board. This board governs Shared Services activities across DOL.

B. Security Advisory Board. This board provides organizational advice and recommendations to the Secretary regarding the security and safety of occupants of and visitors to DOL facilities.

C. Enterprise Risk Management Council. This council serves as the oversight body for the development of coordinated Department-wide positions on risk, risk management, risk mitigation, and execution in conformance with any guidance on risk governance issued by the Congress or the Office of Management and Budget.

D. Strategic Review Council. This council conducts the annual review of the Strategic Plan and of program portfolios to document the Department's progress in meeting its strategic objectives.

7. Reservation of Authority and Responsibility.

A. The submission of reports and recommendations to the President and the Congress concerning the administration of the statutory provisions and Executive Orders affecting DOL is reserved to the Secretary.

B. This Secretary's Order does not affect the authorities or responsibilities of the Office of Inspector General under the Inspector General Act of 1978, as amended, or under Secretary's Order 04-2006 (February 21, 2006).

C. Except as provided above in Section 2, all other Secretary's Orders remain in full force and effect.

8. Effective Date. This Order is effective immediately.

Dated: February 21, 2020.
Eugene Scalia,
Secretary of Labor.

[FR Doc. 2020-04028 Filed 3-5-20; 8:45 am]

BILLING CODE 4510-04-P